DEPARTMENT OF HEALTH AND HUMAN SERVICES

Centers for Disease Control and Prevention

[60Day-02-36]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 487-1210.

Comments are invited on: (a) Whether the proposed collection of information is necessary for the proper performance of the functions of the agency, including whether the information shall have practical utility; (b) the accuracy of the agency’s estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project: The CDC/ATSDR Educational Loan Repayment Program (ELRP)—New—Office of the Director, Human Resources Management Office, Centers for Disease Control and Prevention and the Agency for Toxic Substances and Disease Registry (CDC/ATSDR).

The Centers for Disease Control and Prevention (CDC) intends to implement an Educational Loan Repayment Program (ELRP) authorized under 42 U.S.C. Sect. 247b-7 as a recruitment and retention incentive for highly qualified health professionals in hard-to-fill positions. The ELRP will be implemented on a pilot basis with up to fifteen (15) loans.

Under the ELRP, a maximum of $35,000 a year (plus 39 per cent of total loan repayment for tax credit as loan repayment benefits represent taxable income) may be repaid toward a participant's outstanding eligible educational debt. The participant is responsible for a loan repayment equal to a total of 10 percent of his/her annual CDC base salary, while the ELRP will repay at a rate of one-third (⅓) of the remaining repayable debt (up to the maximum allowable) for each of the three (3) years. The participant must sign a contract agreeing to remain employed by CDC for a period of not less than three years. Failure to complete the minimum three-year service agreement period will be considered a breach of contract and will subject the ELRP participant to assessment of monetary penalties and damages. Actual loan repayment amounts are based on the proportion of a participant's qualifying debt relative to his/her beginning CDC base salary.

Overall ELRP eligibility requirements:

a. Be a citizen of the United States;

b. Hold a relevant Doctoral degree or equivalent;

c. Have been selected for a vacant position or is currently assigned to a covered hard-to-fill health professional occupational series at CDC/ATSDR; and,

d. Have a qualifying educational debt in excess of 20 percent of their annual CDC base salary.

There are no costs to respondents.

Respondents | Number of respondents | Responses/ respondent | Avg. burden per response (in hrs) | Total burden (in hrs)
Supervisor | 15 | 1 | 15/60 | 4
Applicant | 15 | 1 | 15/60 | 4
Lender | 45 | 1 | 30/60 | 23
Total |  |  |  | 31

—

Dated: March 14, 2002.
Nancy E. Cheal,
Acting Associate Director for Policy, Planning and Evaluation, Centers for Disease Control and Prevention.

[FR Doc. 02-6680 Filed 3-19-02; 8:45 am]

BILLING CODE 4163-18-P